DEPARTMENT OF TRANSPORTATION

Federal Aviation Administration

14 CFR Part 39

[Docket No. FAA-2009-1212; Directorate Identifier 2008-NM-167-AD; Amendment 39-16732; AD 2011-13-09]

RIN 2120-AA64

Airworthiness Directives; Airbus Model A330-200 and -300 Series Airplanes

AGENCY: Federal Aviation Administration (FAA), Department of Transportation (DOT).

ACTION: Final rule.

SUMMARY: We are superseding an existing airworthiness directive (AD) that applies to the products listed above. This AD results from mandatory continuing airworthiness information (MCAI) originated by an aviation authority of another country to identify and correct an unsafe condition on an aviation product. The MCAI describes the unsafe condition as:

* * * * *

The airworthiness limitations applicable to the Certification Maintenance Requirements (CMR) are given in Airbus A330 ALS Part 3, which is approved by the European Aviation Safety Agency (EASA).

The revision 03 of Airbus A330 ALS Part 3 introduces more restrictive maintenance requirements and/or airworthiness limitations. Failure to comply with this revision constitutes an unsafe condition.

* * * * *

The unsafe condition is safety-significant latent failures that would, in combination with one or more other specific failures or events, result in a hazardous or catastrophic failure condition. We are issuing this AD to require actions to correct the unsafe condition on these products.

DATES: This AD becomes effective August 1, 2011.

The Director of the Federal Register approved the incorporation by reference of a certain publication listed in this AD as of August 1, 2011.

The Director of the Federal Register approved the incorporation by reference of a certain other publication listed in this AD as of April 9, 2007 (72 FR 9658, March 5, 2007).

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

We issued a second supplemental notice of proposed rulemaking (NPRM) to amend 14 CFR part 39 to include an AD that would apply to the specified products. That NPRM was published in the Federal Register on February 7, 2011 (76 FR 6578), and proposed to supersede AD 2007-05-08, Amendment 39-14969 (72 FR 9658, March 5, 2007). That NPRM proposed to correct an unsafe condition for the specified products. The MCAI states:

The airworthiness limitations are currently distributed in the Airbus A330 Airworthiness Limitations Section (ALS).

The airworthiness limitations applicable to the Certification Maintenance Requirements (CMR) are given in Airbus A330 ALS Part 3, which is approved by the European Aviation Safety Agency (EASA).

The revision 03 of Airbus A330 ALS Part 3 introduces more restrictive maintenance requirements and/or airworthiness limitations. Failure to comply with this revision constitutes an unsafe condition.

For the reason described above, this new AD supersedes EASA AD 2010-0048 and requires the implementation of the new or more restrictive maintenance requirements and/or airworthiness limitations as specified in Airbus A330 ALS Part 3 revision 03.

The unsafe condition is safety-significant latent failures that would, in combination with one or more other specific failures or events, result in a hazardous or catastrophic failure condition. You may obtain further information by examining the MCAI in the AD docket.

Comments

We gave the public the opportunity to participate in developing this AD. We considered the comments received.

Request To Delete Requirement of No Alternative Inspection Interval

Hawaiian Airlines (Hawaiian) requested that paragraph (j) of the second supplemental NPRM be removed completely, or amended to delete the requirement regarding the inspection interval. Hawaiian explained that paragraph (j) of the second supplemental NPRM would mandate that no alternative inspections or inspection intervals could be used unless approved as an alternative method of compliance (AMOC). Hawaiian argued that this proposed requirement would restrict operators from using the long standing approved ALS Part 3 policy for exceptional short-term extensions, as defined in “Ref (C) ALS paragraph 9.” Hawaiian reasoned that the proposed requirement would also restrict operators from adjusting the interval on two-star certification maintenance requirements (CMR**) in accordance with the operators approved escalation practices or approved reliability program, as allowed per “Ref (C) paragraph 6.B.”

We partially agree. While we do not agree to remove paragraph (j) or delete the inspection interval in paragraph (j) of this final rule, we agree to add the phrase, “other than those specified in Airbus A330 ALS, Part 3—Certification Maintenance Requirements, Revision 03, dated July 29, 2010,” which allows operators to use alternative inspections and alternative inspection intervals within the guidelines of Airbus A330 ALS, Part 3—Certification Maintenance Requirements, Revision 03, dated July 29, 2010. We have also revised paragraph (g) of this AD by replacing the phrase “at the times” with the phrase “within the times” to clarify all compliance times and extensions specified in Airbus A330 ALS, Part 3—Certification Maintenance Requirements, Revision 03, dated July 29, 2010, are acceptable.

Request for Inclusion of Appropriate AD

Airbus requested that we revise the second supplemental NPRM to reference the European Aviation Safety Agency (EASA) AD 2006-0224, dated July 27, 2006, instead of EASA AD 2006-0225, dated July 21, 2006. Airbus explained that EASA AD 2006-0225, dated July 21, 2006, is listed in the Related Information paragraph (paragraph (l)) of the second supplemental NPRM.

We agree to revise this final rule to reference EASA AD 2006-0224, dated July 27, 2006, in paragraph (l) of this AD. We have determined that EASA AD 2006-0224, dated July 27, 2006, is the appropriate corresponding EASA AD for this final rule.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect about 55 products of U.S. registry.

The actions that are required by AD 2007-05-08 and retained in this AD take about 1 work-hour per product, at an average labor rate of $85 per work-hour. Based on these figures, the estimated cost of the currently required actions is $85 per product.

We estimate that it will take about 1 work-hour per product to comply with the new basic requirements of this AD. The average labor rate is $85 per work-hour. Based on these figures, we estimate the cost of this AD to the U.S. operators to be $4,675, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

1. Is not a “significant regulatory action” under Executive Order 12866,

2. Is not a “significant rule” under DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14969 (72 FR 9658, March 5, 2007) and adding the following new AD:

2011-13-09 Airbus: Amendment 39-16732. Docket No. FAA-2009-1212; Directorate Identifier 2008-NM-167-AD.

Effective Date

(a) This airworthiness directive (AD) becomes effective August 1, 2011.

Affected ADs

(b) This AD supersedes AD 2007-05-08, Amendment 39-14969.

Applicability

(c) This AD applies to all Airbus Model A330-201, -202, -203, -223, -223F, -243, -243F, -301, -302, -303, -321, -322, -323, -341, -342, and -343 airplanes, certificated in any category; all serial numbers.

Subject

(d) Air Transport Association (ATA) of America Code 05.

Reason

(e) The mandatory continuing airworthiness information (MCAI) states:

* * * * *

The airworthiness limitations applicable to the Certification Maintenance Requirements (CMR) are given in Airbus A330 ALS Part 3, which is approved by the European Aviation Safety Agency (EASA).

The revision 03 of Airbus A330 ALS Part 3 introduces more restrictive maintenance requirements and/or airworthiness limitations. Failure to comply with this revision constitutes an unsafe condition.

* * * * *

The unsafe condition is safety-significant latent failures that would, in combination with one or more other specific failures or events, result in a hazardous or catastrophic failure condition.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (k) of this AD. The request should include a description of changes to the required inspections that will ensure the continued damage tolerance of the affected structure. The FAA has provided guidance for this determination in Advisory Circular (AC) 25-1529-1A.

Restatement of Requirements of AD 2007-05-08, With Requirements for Model A340 Airplanes Removed

Revise the Airworthiness Limitations Section (ALS) of the Instructions for Continued Airworthiness

(f) Unless already done: Within 90 days after April 9, 2007 (the effective date of AD 2007-05-08), revise the Airworthiness Limitations section of the Instructions for Continued Airworthiness by incorporating Airbus A330 Certification Maintenance Requirements, Document 955.2074/93, Issue 19, dated March 22, 2006. Accomplish the actions specified in Airbus A330 Certification Maintenance Requirements, Document 955.2074/93, Issue 19, dated March 22, 2006, at the times specified in Airbus A330 Certification Maintenance Requirements, Document 955.2074/93, Issue 19, dated March 22, 2006, and in accordance with Airbus A330 Certification Maintenance Requirements, Document 955.2074/93, Issue 19, dated March 22, 2006, except as provided by paragraphs (f)(1) and (f)(2) of this AD.

(1) The associated interval for any new task is to be counted from April 9, 2007.

(2) The associated interval for any revised task is to be counted from the previous performance of the task.

New Requirements of This AD

Revise the Maintenance Program

(g) Unless already done, within 90 days of the effective date of this AD: Revise the maintenance program which ensures the continuing airworthiness of each operated airplane by incorporating Airbus A330 ALS, Part 3—Certification Maintenance Requirements, Revision 03, dated July 29, 2010. Within the times specified in the Airbus A330 ALS, Part 3—Certification Maintenance Requirements, Revision 03, dated July 29, 2010, comply with all applicable maintenance requirements and associated airworthiness limitations included in Airbus A330 ALS, Part 3—Certification Maintenance Requirements, Revision 03, dated July 29, 2010, except as provided by paragraphs (h) and (i) of this AD. Doing this revision terminates the requirements of paragraph (f) of this AD for that airplane only.

Exceptions to the Certification Maintenance Requirements (CMR) Tasks

(h) At the latest of the times specified in paragraph (h)(1), (h)(2), or (h)(3) of this AD: Do the first accomplishment of Airbus A330 CMR Task 213100-00001-2-C, Pressure Control Monitoring, of Airbus A330 ALS, Part 3—Certification Maintenance Requirements, Revision 03, dated July 29, 2010.

(1) Before the accumulation of 48,000 total flight hours.

(2) Within 48,000 flight hours after the most recent accomplishment of Airbus A330 Maintenance Review Board Report (MRBR) Task 21.31.00/05.

(3) Within three months after the effective date of this AD.

(i) At the latest of the times specified in paragraph (i)(1), (i)(2), or (i)(3) of this AD: Do the first accomplishment of Airbus A330 CMR Tasks 242000-00005-1-C, AC Generation; 243000-00001-1-C, DC Generation; and 243000-00002-1-C, DC Generation; of Airbus A330 ALS, Part 3—Certification Maintenance Requirements, Revision 03, dated July 29, 2010.

(1) Before the accumulation of 12,000 total flight hours.

(2) Within 12,000 flight hours after the most recent accomplishment of Airbus A330 MRBR Task 24.20.00/17, 24.30.00/04, or 24.30.00/05 respectively.

(3) Within three months after the effective date of this AD.

No Alternative Inspections or Intervals

(j) After accomplishing the action required by paragraph (g) of this AD, no alternative inspections or inspection intervals may be used, other than those specified in Airbus A330 ALS, Part 3—Certification Maintenance Requirements, Revision 03, dated July 29, 2010, unless the inspections or intervals are approved as an alternative method of compliance (AMOC) in accordance with the procedures specified in paragraph (k)(1) of this AD.

FAA AD Differences

Note 2: This AD differs from the MCAI and/or service information as follows: No differences.

Other FAA AD Provisions

(k) The following provisions also apply to this AD:

(1) Alternative Methods of Compliance (AMOCs): The Manager, ANM-116, International Branch, Transport Airplane Directorate, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(l) Refer to European Aviation Safety Agency (EASA) Airworthiness Directives 2006-0224, dated July 27, 2006, and 2010-0264, dated December 20, 2010; Airbus A330 Certification Maintenance Requirements, Document 955.2074/93, Issue 19, dated March 22, 2006; and Airbus A330 ALS, Part 3—Certification Maintenance Requirements, Revision 03, dated July 29, 2010; for related information.

Material Incorporated by Reference

(m) You must use Airbus A330 Certification Maintenance Requirements, Document 955.2074/93, Issue 19, dated March 22, 2006; and Airbus A330 ALS, Part 3—Certification Maintenance Requirements, Revision 03, dated July 29, 2010; as applicable; to do the actions required by this AD, unless the AD specifies otherwise. The revision level of Airbus A330 ALS, Part 3—Certification Maintenance Requirements, Revision 03, dated July 29, 2010, is identified only on the title page of the document; the revision date of this document is not identified on the title page.

(1) The Director of the Federal Register approved the incorporation by reference of Airbus A330 ALS, Part 3—Certification Maintenance Requirements, Revision 03, dated July 29, 2010, under 5 U.S.C. 552(a) and 1 CFR part 51.

(2) The Director of the Federal Register previously approved the incorporation by reference of Airbus A330 Certification Maintenance Requirements, Document 955.2074/93, Issue 19, dated March 22, 2006; on April 9, 2007 (72 FR 9658, March 5, 2007).

(3) For service information identified in this AD, contact Airbus SAS—Airworthiness Office—EAL, 1 Rond Point Maurice Bellonte, 31707 Blagnac Cedex, France; telephone +33 5 61 93 36 96; fax +33 5 61 93 45 80, e-mail airworthiness.A330-A340@airbus.com; Internet http://www.airbus.com.

(4) You may review copies of the service information at the FAA, Transport Airplane Directorate, 1601 Lind Avenue, SW., Renton, Washington. For information on the availability of this material at the FAA, call 425-227-1221.

(5) You may also review copies of the service information that is incorporated by reference at the National Archives and Records Administration (NARA). For information on the availability of this material at NARA, call 202-741-6030, or go to: http://www.archives.gov/federal_register/code_of_federal_regulations/ibr_locations.html.

Issued in Renton, Washington, on June 14, 2011.
Ali Bahrami,
Manager, Transport Airplane Directorate, Aircraft Certification Service.

[FR Doc. 2011-15366 Filed 6-24-11; 8:45 am]

BILLING CODE 4910-13-P